NATIONAL LABOR RELATIONS BOARD

29 CFR Part 103

RIN 3142-AA21

Standard for Determining Joint Employer Status

AGENCY: National Labor Relations Board.

ACTION: Notice of proposed rulemaking; extension of comment periods.

SUMMARY: The National Labor Relations Board (“NLRB” or “Board”) published a notice of proposed rulemaking in the Federal Register on September 7, 2022, seeking comments from the public regarding the revision of the standard for determining whether two employers, as defined in section 2(2) of the National Labor Relations Act (NLRA or Act), are joint employers of particular employees within the meaning of section 2(3) of the Act.

DATES: The comment periods for the notice of proposed rulemaking published September 7, 2022, at 87 FR 54641, are extended. Comments must be received by the Board on or before December 7, 2022, and reply comments to the initial comments must be received on or before December 21, 2022.

ADDRESSES: Comments should be submitted electronically through https://www.regulations.gov. Comments may be submitted by mail or hand delivery to: Roxanne L. Rothschild, Executive Secretary, National Labor Relations Board, 1015 Half Street SE, Washington, DC 20570-0001. Because of security precautions, the Board continues to experience delays in U.S. mail delivery. You should take this into consideration when preparing to meet the deadline for submitting comments. The Board encourages electronic filing. It is not necessary to send comments if they have been filed electronically with regulations.gov. If you send comments, the Board recommends that you confirm receipt of your delivered comments by contacting (202) 273-1940 (this is not a toll-free number). Individuals with hearing impairments may call 1-866-315-6572 (TTY/TDD).

Only comments submitted through https://www.regulations.gov, hand delivered, or mailed will be accepted; ex parte communications received by the Board will be made part of the rulemaking record and will be treated as comments only insofar as appropriate. Comments will be available for public inspection at https://www.regulations.gov and during normal business hours (8:30 a.m. to 5 p.m. EST) at the above address.

The Board will post, as soon as practicable, all comments received on https://www.regulations.gov without making any changes to the comments, including any personal information provided. The website https://www.regulations.gov is the Federal eRulemaking portal, and all comments posted there are available and accessible to the public. The Board requests that comments include full citations or internet links to any authority relied upon. The Board cautions commenters not to include personal information such as Social Security numbers, personal addresses, telephone numbers, and email addresses in their comments, as such submitted information will become viewable by the public via the https://www.regulations.gov website. It is the commenter's responsibility to safeguard his or her information. Comments submitted through https://www.regulations.gov will not include the commenter's email address unless the commenter chooses to include that information as part of his or her comment.

FOR FURTHER INFORMATION CONTACT: Roxanne L. Rothschild, Executive Secretary, National Labor Relations Board, 1015 Half Street SE, Washington, DC 20570-0001, (202) 273-1940 (this is not a toll-free number), 1-866-315-6572 (TTY/TDD).

SUPPLEMENTARY INFORMATION: The proposed changes are designed to explicitly ground the joint-employer standard in established common-law agency principles and provide relevant guidance to parties covered by the Act regarding their rights and responsibilities when more than one statutory employer possesses the authority to control or exercises the power to control particular employees' essential terms and conditions of employment.

Dated: October 14, 2022.
Roxanne L. Rothschild,
Executive Secretary.

[FR Doc. 2022-22690 Filed 10-18-22; 8:45 am]

BILLING CODE 7545-01-P